DEPARTMENT OF HEALTH AND HUMAN SERVICES

National Institutes of Health

National Eye Institute; Notice of Meeting

Pursuant to section 10(d) of the Federal Advisory Committee Act, as amended, notice is hereby given of a meeting of the National Advisory Eye Council.

The meeting will be held as a virtual meeting on October 22, 2021 and is open to the public as indicated below. The open session (event) will be videocast by NIH with closed captioning at: https://videocast.nih.gov/watch=42708. To request reasonable accommodations, please contact Nathan.Brown2@nih.gov at least 15 days before the event. The agenda can be found at: https://www.nei.nih.gov/about/advisory-committees/national-advisory-eye-council-naec/national-advisory-eye-council-naec-meetings.

The portion of this will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Eye Council National Institutes of Health.

Date: October 22, 2021.

Open: 10:00 a.m. to 1:30 p.m.

Agenda: Presentation of the NEI Director's report and discussion of Data Sharing and Management as well as NEI programs.

Place: National Eye Institutes, National Institutes of Health, 6700 Rockledge Drive, Suite 3400, Bethesda, MD 20892, (Virtual Meeting).

Closed: 2:00 p.m. to 5:00 p.m.

Agenda: To review and evaluate grant applications.

Place: National Eye Institutes, National Institutes of Health, 6700 Rockledge Drive, Suite 3400, Bethesda, MD 20892, (Virtual Meeting).

Contact Person: Kathleen C. Anderson, Ph.D., Director, Division of Extramural Activities, National Eye Institute, National Institutes of Health, 6700B Rockledge Drive, Room 3440, Bethesda, MD 20892, 301-451-2020, kanders1@nei.nih.gov.

Any interested person may file written comments with the committee by forwarding the statement to the contact person listed above before the meeting or within 15 days after the meeting. The statement should include the name, address, telephone number and when applicable, the business or professional affiliation of the interested person.

Information is also available on the Institute's/Center's home page: https://www.nei.nih.gov/about/advisory-committees/national-advisory-eye-council-naec, where an agenda and any additional information for the meeting will be posted when available.

(Catalogue of Federal Domestic Assistance Program Nos. 93.867, Vision Research, National Institutes of Health, HHS)

Dated: September 20, 2021.
Victoria E. Townsend,
Program Analyst, Office of Federal Advisory Committee Policy.

[FR Doc. 2021-20783 Filed 9-23-21; 8:45 am]

BILLING CODE 4140-01-P